DEPARTMENT OF LABOR

Employment and Training Administration

Relocation of the Office of Foreign Labor Certification's Atlanta National Processing Center; Change of Physical Mailing Address

ACTION: Notice.

SUMMARY: The U.S. Department of Labor's Employment and Training Administration is providing notice that the Office of Foreign Labor Certification (OFLC) is changing the mailing address for its Atlanta National Processing Center (ANPC) beginning August 25, 2021, with the exception of mail associated with the processing of applications requesting permanent labor certification subject to supervised recruitment.

DATES: The new address announced in this notice is effective on August 25, 2021.

FOR FURTHER INFORMATION CONTACT: Brian Pasternak, Administrator, Office of Foreign Labor Certification, Employment and Training Administration, U.S. Department of Labor, by telephone 202-513-7379 (this is not a toll-free number) or, for individuals with hearing or speech impairments, TTY 1-877-889-5627.

SUPPLEMENTARY INFORMATION:

I. Background

OFLC's National Office provides program leadership and policy guidance, and develops regulations and procedures to implement the responsibilities of the Secretary under the Department's foreign labor certification programs. 20 CFR 655.2(a), 656.3.

OFLC's Atlanta National Processing Center (ANPC) primarily processes labor certification applications filed by, or on behalf of, employers seeking to permanently employ foreign workers in the U.S., as well as labor condition applications or labor attestations for the E-3, H-1B, and H-1B1 visa classifications. OFLC's expanded use of technology allows for the electronic filing of employer applications and facilitates the transmission and exchange of official notifications and supporting documents. As a result, OFLC strongly urges stakeholders to continue to, or begin to, register online for submitting applications and uploading all required or responsive documents directly into the PERM Online System (https://www.plc.doleta.gov/) or Foreign Labor Application Gateway (FLAG) System (https://flag.dol.gov/), as appropriate. All mail related to these applications is currently submitted to the ANPC's physical mailing address at: U.S. Department of Labor, Employment and Training Administration, Office of Foreign Labor Certification, Atlanta National Processing Center, Harris Tower, 233 Peachtree Street NE, Suite 410, Atlanta, GA 30303.

This Notice informs the public about a change of address for ANPC. As specified below, with the exception of mail associated with the processing of applications requesting permanent labor certification subject to supervised recruitment under 20 CFR 656.21, the address change for ANPC is effective on August 25, 2021.

II. ANPC's New Address

Effective August 25, 2021, any mail, including U.S. Postal Service and other courier mail or parcel delivery packages, etc., sent to ANPC must be submitted to the following new mailing address: U.S. Department of Labor, Employment and Training Administration, Office of Foreign Labor Certification, 200 Constitution Avenue NW, Room N-5311, Washington, DC 20210. The one exception is mail associated with Supervised Recruitment under 20 CFR 656.21, which must continue to be submitted to: U.S. Department of Labor, Employment and Training Administration, Office of Foreign Labor Certification, Atlanta National Processing Center, Attn: Supervised Recruitment, P.O. Box 56625, Atlanta, GA 30343.

Employers are reminded to adhere to regulatory requirements at 20 CFR 656.10(d), including providing ANPC's correct new mailing address, specified above, on the Notice of Filing (NOF) that must be posted when employers file a Form ETA-9089, Application for Permanent Employment Certification. If the required 10-day posting period for a NOF commences after September 5, 2021, employers must include the new mailing address contained in this notice. 20 CFR 656.10(d)(3)(iii).

The correct new mailing address above must be used as of August 25, 2021. Any U.S. Postal Service mail addressed to the prior ANPC mailing address will be forwarded by the U.S. Postal Service, but OFLC will not consider such forwarded mail timely if the mail is postmarked after September 15, 2021. Courier services and other courier mail or parcel delivery services, etc., will no longer be able to deliver to ANPC's prior mailing address as of August 25, 2021.

Suzan G. LeVine,
Principal Deputy Assistant Secretary for the Employment and Training, Labor.

[FR Doc. 2021-15112 Filed 7-15-21; 8:45 am]

BILLING CODE 4510-FP-P